NATIONAL FOUNDATION ON THE ARTS AND THE HUMANITIES

National Endowment for the Humanities

Meeting of Humanities Panel

AGENCY: National Endowment for the Humanities; National Foundation on the Arts and the Humanities.

ACTION: Notice of Meeting.

SUMMARY: The National Endowment for the Humanities (NEH) will hold nineteen meetings, by videoconference, of the Humanities Panel, a federal advisory committee, during September 2020. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: September 1, 2020

This video meeting will discuss applications on the topic of History, for the Digital Projects for the Public: Discovery Grants program, submitted to the Division of Public Programs.

2. Date: September 1, 2020

This video meeting will discuss applications on the topic of Computational Analysis, for the Digital Humanities Advancement Grants program, submitted to the Office of Digital Humanities.

3. Date: September 1, 2020

This video meeting—the first of two on this date—will discuss applications for the Humanities Initiatives at Colleges and Universities grant program, submitted to the Division of Education Programs.

4. Date: September 1, 2020

This video meeting—the second of two on this date—will discuss applications for the Humanities Initiatives at Colleges and Universities grant program, submitted to the Division of Education Programs.

5. Date: September 2, 2020

This video meeting will discuss applications on the topics of Games and VR, for the Digital Projects for the Public: Production Grants program, submitted to the Division of Public Programs.

6. Date: September 2, 2020

This video meeting will discuss applications on the topics of Arts and Media Studies, for the Digital Humanities Advancement Grants program, submitted to the Office of Digital Humanities.

7. Date: September 2, 2020

This video meeting will discuss applications for the Humanities Initiatives at Colleges and Universities grant program, submitted to the Division of Education Programs.

8. Date: September 3, 2020

This video meeting will discuss applications for the Humanities Initiatives at Tribal Colleges and Universities grant program, submitted to the Division of Education Programs.

9. Date: September 3, 2020

This video meeting will discuss applications on the topics of Pedagogy and Community Engagement, for the Digital Humanities Advancement Grants program, submitted to the Office of Digital Humanities.

10. Date: September 3, 2020

This video meeting will discuss applications on the topic of U.S. History, for the Digital Projects for the Public: Production Grants program, submitted to the Division of Public Programs.

11. Date: September 4, 2020

This video meeting will discuss applications on the topic of Scholarly Communications, for the Digital Humanities Advancement Grants program, submitted to the Office of Digital Humanities.

12. Date: September 8, 2020

This video meeting will discuss applications on the topic of Historic Sites, for the Digital Projects for the Public: Discovery Grants program, submitted to the Division of Public Programs.

13. Date: September 8, 2020

This video meeting—the first of two on this date—will discuss applications for the Humanities Initiatives at Hispanic-Serving Institutions grant program, submitted to the Division of Education Programs.

14. Date: September 8, 2020

This video meeting—the second of two on this date—will discuss applications for the Humanities Initiatives at Hispanic-Serving Institutions grant program, submitted to the Division of Education Programs.

15. Date: September 9, 2020

This video meeting will discuss applications on the topics of Arts and Culture, for the Digital Projects for the Public: Discovery Grants program, submitted to the Division of Public Programs.

16. Date: September 9, 2020

This video meeting—the first of two on this date—will discuss applications for the Humanities Initiatives at Hispanic-Serving Institutions grant program, submitted to the Division of Education Programs.

17. Date: September 9, 2020

This video meeting—the second of two on this date—will discuss applications for the Humanities Initiatives at Hispanic-Serving Institutions grant program, submitted to the Division of Education Programs.

18. Date: September 10, 2020

This video meeting will discuss applications on the topic of Urban History, for the Digital Projects for the Public: Production Grants program, submitted to the Division of Public Programs.

19. Date: September 11, 2020

This video meeting will discuss applications on the topics of Arts and Culture, for the Digital Projects for the Public: Production Grants program, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: August 11, 2020.
Caitlin Cater,
Attorney-Advisor, National Endowment for the Humanities.

[FR Doc. 2020-17807 Filed 8-14-20; 8:45 am]

BILLING CODE 7536-01-P